DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one or more persons currently included in OFAC's Specially Designated Nationals and Blocked Persons List (SDN List).

DATES: This action was issued on January 2, 2026. See Supplementary Information section for effective dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Actions

On January 2, 2026, OFAC updated the entry on the SDN List for the following person, whose property and interests in property subject to U.S. jurisdiction continue to be blocked under the relevant sanctions authorities listed below.

Individual

1. DIANA, Cristian, Isernia, Italy; DOB 03 Oct 1974; POB Isernia, Italy; nationality Italy; Gender Male; Passport E619547 (Italy) (individual) [ILLICIT-DRUGS-EO14059] (Linked To: STILE ITALIANO S.R.L.; Linked To: WINDROSE TACTICAL SOLUTIONS S.R.L.S.).

The listing for the individual now appears as follows:

DIANA, Cristian, Pordenone, Italy; DOB 24 Nov 1971; POB Pordenone, Italy; nationality Italy; Gender Male; Passport YB8215970 (Italy); Tax ID No. DNICST71S24G888J (Italy) (individual) [ILLICIT-DRUGS-EO14059] (Linked To: STILE ITALIANO S.R.L.; Linked To: WINDROSE TACTICAL SOLUTIONS S.R.L.S.).

Dated: January 2, 2026.
Lisa M. Palluconi,
Deputy Director, Office of Foreign Assets Control.

[FR Doc. 2026-00075 Filed 1-6-26; 8:45 am]

BILLING CODE 4810-AL-P